DEPARTMENT OF THE INTERIOR

National Park Service

[NPS-WASO-NAGPRA-18165; PPWOCRADN0-PCU00RP15.R50000]

Notice of Intent to Repatriate Cultural Items: U.S. Department of Agriculture, Forest Service, Hiawatha National Forest, Gladstone, MI

AGENCY: National Park Service, Interior.

ACTION: Notice.

SUMMARY: The U.S. Department of Agriculture (USDA), Forest Service, Hiawatha National Forest, in consultation with the appropriate Indian tribes or Native Hawaiian organizations, has determined that the cultural items listed in this notice meet the definition of unassociated funerary objects. Lineal descendants or representatives of any Indian tribe or Native Hawaiian organization not identified in this notice that wish to claim these cultural items should submit a written request to the Hiawatha National Forest. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Hiawatha National Forest at the address in this notice by June 22, 2015.

ADDRESSES: Eric Drake, Heritage Program Manager, Hiawatha National Forest, 820 Rains Drive, Gladstone, MI 49837, telephone (906) 428-5817, email ericdrake@fs.fed.us.

SUPPLEMENTARY INFORMATION: Notice is here given in accordance with the Native American Graves Protection and Repatriation Act (NAGPRA), 25 U.S.C. 3005, of the intent to repatriate cultural items under the control of the Hiawatha National Forest and in the possession of the Field Museum of Natural History, Chicago, IL, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

At an unknown date prior to 1943, 116 cultural items were removed from gravesites associated with the Ojibwa/Chippewa and Odawa/Ottawa Village and Cemetery/Ossuary site (20MK3), located on Round Island in Mackinac County, MI. Mr. Harvey E. Bouwknegt (1888-1967) of Grandville, MI, donated the Bouwknegt (Bowknegtt, or Brouwknect) Collection to the Chicago Natural History Museum (later renamed the Field Museum of Natural History), where the cultural items were accessioned in 1943.

Round Island is located within Royce Area 205, which was ceded to the U.S. Government by the Ottawa and Chippewa Tribes of Michigan in the 1836 Treaty of Washington. Under Article 3 of this treaty, Round Island is defined as “a place of encampment for the Indians, to be under the charge of the Indian department.” In 1873, the U.S. Government set aside 8.24 acres of land on Round Island for the construction of a lighthouse, and in 1875, deeded the remainder of the island, including the location of site 20MK3, to the State of Michigan for the creation of a state park. A state park was never created, however, and so the ownership of the island reverted to the Federal government in 1935, and Round Island was established as National Forest Land in 1938.

The 116 objects in the Bouwknegt Collection, therefore, were more than likely removed from site 20MK3 during the period when the island was owned by the State of Michigan (1875-1935). The Michigan State Historic Preservation office, however, has formally deferred its responsibilities as the lead agency to the Hiawatha National Forest for this repatriation case.

The 116 unassociated funerary objects consist of 10 buckles, 39 links, 2 silver gorgets, 7 silver armbands, 4 silver bracelets, 1 silver Maltese cross, 1 silver Latin cross, 1 silver Florentine cross, 21 silver brooches, 1 silver hair tube, 2 silver beaver effigies, 1 silver breast ornament, 5 silver breast ornament pieces, 1 silver ornament, 15 silver earrings, and 5 beads. The Field Museum catalog numbers for these items are 47832-47838, 47840-47843, 47845-47870, 47872, 47873, and 47875. Sixteen of the silver trade items have maker's marks stamped on them that roughly date between1760 and 1810. These objects and the other items in the Bouwknegt Collection are comparable to silver trade items recovered from contemporary Ojibwa and Odawa village sites and cemeteries located throughout Michigan and the Upper Great Lakes.

Twenty-one tribes (see list below) were consulted through a combination of formal letters, emails, and phone conversations to determine the disposition of these cultural items. Seven formally expressed their support for repatriating the Bouwknegt Collection to the Sault Ste. Marie Tribe of Chippewa Indians who submitted the formal claim to repatriate this collection. The remaining fourteen tribes did not formally respond to our invitation to comment. None, however, expressed concern or disapproval.

Determinations Made by the Hiawatha National Forest

Officials of the Hiawatha National Forest have determined that:

• Pursuant to 25 U.S.C. 3001(3)(B), the 116 unassociated funerary objects described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Sault Ste. Marie Tribe of Chippewa Indians.

Additional Requestors and Disposition

Lineal descendants or representatives of any Indian tribe or Native Hawaiian organization not identified in this notice that wish to claim these cultural items should submit a written request with information in support of the claim to Eric Drake, Heritage Program Manager, Hiawatha National Forest, 820 Rains Drive, Gladstone, MI 49837, telephone (906) 428-5817, email ericdrake@fs.fed.us, by June 22, 2015. After that date, if no additional claimants have come forward, transfer of control of the unassociated funerary objects to the Sault Ste. Marie Tribe of Chippewa Indians may proceed.

The Hiawatha National Forest is responsible for notifying the Bad River Band of Lake Superior Chippewa Indians of the Bad River Reservation, Wisconsin; Bay Mills Indian Community, Michigan; Fond du Lac Band of the Minnesota Chippewa Tribe, Minnesota; Grand Traverse Band of Ottawa and Chippewa Indians, Michigan; Hannahville Indian Community, Michigan; Keweenaw Bay Indian Community, Michigan; Lac Courte Oreilles Band of Lake Superior Chippewa Indians of Wisconsin; Lac du Flambeau Band of Lake Superior Chippewa Indians of the Lac du Flambeau Reservation of Wisconsin; Lac Vieux Desert Band of Lake Superior Chippewa Indians of Michigan; Little River Band of Ottawa Indians, Michigan; Little Traverse Bay Bands of Odawa Indians, Michigan; Match-e-be-nash-she-wish Band of Pottawatomi Indians of Michigan; Mille Lacs Band of the Minnesota Chippewa Tribe, Minnesota; Nottawaseppi Huron Band of the Potawatomi, Michigan (previously listed as the Huron Potawatomi, Inc.); Red Cliff Band of Lake Superior Chippewa Indians of Wisconsin; Red Lake Band of Chippewa Indians, Minnesota; Saginaw Chippewa Indian Tribe of Michigan; Sault Ste. Marie Tribe of Chippewa Indians, Michigan; St. Croix Chippewa Indians of Wisconsin; and the non-federally recognized Indian groups, Burt Lake Band of Ottawa and Chippewa Indians and Grand River Band of Ottawa Indians, that this notice has been published.

Dated: April 16, 2015.
Mariah Soriano,
Acting Manager, National NAGPRA Program.

[FR Doc. 2015-12533 Filed 5-21-15; 8:45 am]

BILLING CODE 4312-50-P